ENVIRONMENTAL PROTECTION AGENCY

[FRL-9905-85-Region 10]

Proposed Issuance of the NPDES General Permit for Oil and Gas Geotechnical Surveying and Related Activities in Federal Waters of the Beaufort and Chukchi Seas

AGENCY: Environmental Protection Agency (EPA).

ACTION: Extension of public comment period.

SUMMARY: On November 22, 2013, EPA provided public notice on the proposed issuance of a National Pollutant Discharge Elimination System (NPDES) General Permit for Oil and Gas Geotechnical Surveys and Related Activities in Federal Waters of the Beaufort and Chukchi Seas (Permit No. AKG-28-4300), and established a comment deadline of January 27, 2014, (78 FR 70042). On January 15, 2014, the Alaska Eskimo Whaling Commission requested a 30-day extension to the comment period. In response to that request, EPA is extending the comment period for an additional 23 days, from January 27, 2014 to February 19, 2014.

DATES: Comments. The public comment period for the draft Geotechnical General Permit is extended as of the date of publication of this Notice until February 19, 2014. Comments must be received or post-marked by no later than midnight Pacific Standard Time on February 19, 2014.

ADDRESSES: You may submit comments by any of the following methods. EPA will consider all comments received during the public comment period prior to making its final decision.

Mail: Send paper comments to Erin Seyfried, Office of Water and Watersheds, Mail Stop OWW-130, 1200 6th Avenue, Suite 900, Seattle, WA 98101-3140.

Email: Send electronic comments to R10geotechpermit@epa.gov.

Fax: Fax comments to the attention of Erin Seyfried at (206) 553-0165.

Hand Delivery/Courier: Deliver comments to Erin Seyfried, Office of Water and Watersheds, Mail Stop OWW-130, 1200 6th Avenue, Suite 900, Seattle, WA 98101-3140. Call (206) 553-0523 before delivery to verify business hours.

Viewing and/or Obtaining Copies of Documents. A copy of the draft Geotechnical General Permit and the Fact Sheet, which explains the proposal in detail, may be obtained by contacting EPA at 1 (800) 424-4372. Copies of the documents are also available for viewing and downloading at:

http://yosemite.epa.gov/r10/water.nsf/npdes+permits/DraftPermitsAK

http://yosemite.epa.gov/r10/water.nsf/npdes+permits/arctic-gp.

See SUPPLEMENTARY INFORMATION for other document viewing locations.

FOR FURTHER INFORMATION CONTACT: Erin Seyfried, Office of Water and Watersheds, U.S. Environmental Protection Agency, Region 10, Mail Stop OWW-130, 1200 6th Avenue, Suite 900, Seattle, WA 98101-3140, (206) 553-1448, seyfried.erin@epa.gov.

SUPPLEMENTARY INFORMATION: The Fact Sheet describes the types of facilities and the discharges proposed to be authorized by the Geotechnical General Permit; the proposed effluent limits and other conditions; maps and descriptions of the proposed Area of Coverage; and a summary of the supporting technical materials.

Document Viewing Locations. The draft Geotechnical General Permit and Fact Sheet may also be viewed at the following locations:

(1) EPA Region 10 Library, Park Place Building, 1200 6th Avenue, Suite 900, Seattle, WA 98101; (206) 553-1289.

(2) EPA Region 10, Alaska Operations Office, 222 W 7th Avenue, #19, Room 537, Anchorage, AK 99513; (907) 271-5083.

(3) DEC Anchorage Office, 555 Cordova Street, Anchorage, AK 99501; (907) 269-7235.

(4) Z. J. Loussac Public Library, 3600 Denali Street, Anchorage, AK 99503; (907) 343-2975.

(5) North Slope Borough School District Library/Media Center, Pouch 169, 829 Aivak Street, Barrow, AK 99723; (907) 852-5311.

EPA's current administrative record for the draft Geotechnical General Permit is available for review at the EPA Region 10 Office, Park Place Building, 1200 6th Avenue, Suite 900, Seattle, WA 98101, between 9:00 a.m. and 4:00 p.m., Monday through Friday. Contact Erin Seyfried at seyfried.erin@epa.gov or (206) 553-1448.

Oil Spill Requirements. Section 311 of the Act, 33 U.S.C. 1321, prohibits the discharge of oil and hazardous materials in harmful quantities. Discharges authorized under the Geotechnical General Permit are excluded from the provisions of CWA Section 311, 33 U.S.C. 1321. However, the Geotechnical General Permit will not preclude the institution of legal action, or relieve the permittees from any responsibilities, liabilities, or penalties for other unauthorized discharges of oil and hazardous materials, which are covered by Section 311.

Executive Order 12866. The Office of Management and Budget (OMB) exempts this action from the review requirements of Executive Order 12866 pursuant to Section 6 of that order.

Paperwork Reduction Act. EPA has reviewed the requirements imposed on regulated facilities in the Geotechnical General Permit and finds them consistent with the Paperwork Reduction Act of 1980, 44 U.S.C. 3501 et seq.

Regulatory Flexibility Act. Under the Regulatory Flexibility Act (RFA), 5 U.S.C. 601 et seq., a federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the FRA. Notwithstanding that general permits are not subject to the RFA, EPA has determined that the Geotechnical General Permit will not have a significant impact on a substantial number of small entities. This determination is based on the fact that the regulated companies are not classified as small businesses under the Small Business Administration regulations established at 49 FR 5023 et seq. (February 9, 1984). These facilities are classified as Major Group 13—Oil as Gas Extraction SIC 1311 Crude Petroleum and Natural Gas.

Authority: This action is taken under the authority of Section 402 of the Clean Water Act as amended, 42 U.S.C. 1342. I hereby provide notice that the public comment period for the draft Geotechnical General Permit is extended until February 19, 2014, in accordance with 40 CFR 124.10 and 124.13.

Dated: January 16, 2014.
Daniel D. Opalski,
Director, Office of Water and Watersheds, Region 10.

[FR Doc. 2014-01507 Filed 1-24-14; 8:45 am]

BILLING CODE 6560-50-P